FARM CREDIT ADMINISTRATION

12 CFR Part 600

RIN 3052-AD05

Organization and Functions; Field Office Locations

AGENCY: Farm Credit Administration.

ACTION: Final rule.

SUMMARY: The Farm Credit Administration (FCA, we, our or Agency) issues a final rule amending our regulation in order to change the addresses for two field offices as a result of recent office relocations.

DATES: The regulation shall become effective upon the expiration of 30 days after publication in the Federal Register during which either or both Houses of Congress are in session. We will publish notice of the effective date in the Federal Register.

FOR FURTHER INFORMATION CONTACT: Michael T. Wilson, Policy Analyst, Office of Regulatory Policy, Farm Credit Administration, McLean, VA 22102-5090, (703) 883-4124, TTY (703) 883-4056,

Or

Jane Virga, Senior Counsel, Office of General Counsel, Farm Credit Administration, McLean, VA 22102-5090, (703) 883-4071, TTY (703) 883-4056.

SUPPLEMENTARY INFORMATION:

I. Objective

The objective of this final rule is to reflect the change of address for two FCA field office locations. The Freedom of Information Act, 5 U.S.C. 552, requires, in part, that each Federal agency publish in the Federal Register for the guidance of the public a description and the location of its central and field organizations. As two of FCA's field offices recently changed locations, this final rule amends our regulation to include the new addresses, in accordance with the Freedom of Information Act.

II. Certain Finding

We have determined that the amendment involves Agency management and personnel. Therefore, this amendment does not constitute a rulemaking under the Administrative Procedure Act (APA), 5 U.S.C. 551, 553(a)(2). Under this statute of the APA, the public may participate in the promulgation of rules that have a substantial impact on the public. This amendment to our regulation relates to Agency management and personnel only and has no direct impact on the public and, therefore, does not require public participation.

Even if this amendment was a rulemaking under 5 U.S.C. 551, 553(a)(2) of the APA, we have determined that notice and public comment are unnecessary and contrary to the public interest. Under 5 U.S.C. 553(b)(A) and (B) of the APA, an agency may publish regulations in final form when they involve matters of agency organization or where the agency for good cause finds that notice and public comment are impracticable, unnecessary, or contrary to the public interest. As discussed above, this amendment results from recent address changes due to the relocation of two field offices. Because the amendments will provide accurate and current information on field office addresses to the public, it would be contrary to the public interest to delay amending the regulation.

III. Regulatory Flexibility Act

Pursuant to section 605(b) of the Regulatory Flexibility Act (5 U.S.C. 601 et seq.), the FCA hereby certifies that the final rule will not have a significant economic impact on a substantial number of small entities. Each of the banks in the Farm Credit System (System), considered together with its affiliated associations, has assets and annual income in excess of the amounts that would qualify them as small entities. Therefore, System institutions are not “small entities” as defined in the Regulatory Flexibility Act.

List of Subjects in 12 CFR Part 600

Organization and functions (Government agencies).

As stated in the preamble, part 600 of chapter VI, title 12, of the Code of Federal Regulations is amended as follows:

PART 600--ORGANIZATION AND FUNCTIONS

1. The authority citation for part 600 continues to read as follows:

Authority: Secs. 5.7, 5.8, 5.9, 5.10, 5.11, 5.17, 8.11 of the Farm Credit Act (12 U.S.C. 2241, 2242, 2243, 2244, 2245, 2252, 2279aa-11).

2. Amend § 600.2 by revising paragraph (b) to read as follows:

§ 600.2 Farm Credit Administration.

* * * * *

(b) Locations. FCA's headquarters address is 1501 Farm Credit Drive, McLean, Virginia 22102-5090. The FCA has the following field offices:

1501 Farm Credit Drive, McLean, VA 22102-5090

7900 International Drive, Suite 200, Bloomington, MN 55425-2563

500 East John Carpenter Freeway, Suite 400, Irving, TX 75602-3957

3131 South Vaughn Way, Suite 250, Aurora, CO 80014-3507

2180 Harvard Street, Suite 300, Sacramento, CA 95815-3323.

Date: March 19, 2015.
Dale L. Aultman,
Secretary, Farm Credit Administration.

[FR Doc. 2015-06756 Filed 3-24-15; 8:45 am]

BILLING CODE 6705-01-P